DEPARTMENT OF HOMELAND SECURITY

Federal Emergency Management Agency

[Docket ID FEMA-2021-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Arizona:
Maricopa (FEMA Docket No.: B-2056). | City of Buckeye (20-09-0463P). | The Honorable Jackie A. Meck, Mayor, City of Buckeye, 530 East Monroe Avenue, Buckeye, AZ 85326. | Engineering Department, 530 East Monroe Avenue, Buckeye, AZ 85326. | Nov. 20, 2020 | 040039
Maricopa (FEMA Docket No.: B-2056). | City of Chandler (20-09-0945P). | The Honorable Kevin Hartke, Mayor, City of Chandler, P.O. Box 4008, Chandler, AZ 85244. | Transportation & Development Department, 215 East Buffalo Street, Chandler, AZ 85225. | Dec. 11, 2020 | 040040
Maricopa (FEMA Docket No.: B-2066). | City of Glendale (20-09-0467P). | The Honorable Jerry P. Weiers, Mayor, City of Glendale, 5850 West Glendale Avenue, Suite 451, Glendale, AZ 85301. | City Hall, 5850 West Glendale Avenue, Glendale, AZ 85301. | Dec. 18, 2020 | 040045
Maricopa (FEMA Docket No.: B-2071). | City of Goodyear (20-09-0477P). | The Honorable Georgia Lord, Mayor, City of Goodyear, 190 North Litchfield Road, Goodyear, AZ 85338. | Engineering and Development Services, 14455 West Van Buren Street, Suite D101, Goodyear, AZ 85338. | Jan. 15, 2021 | 040046
Maricopa (FEMA Docket No.: B-2056). | City of Goodyear (20-09-1530P). | The Honorable Georgia Lord, Mayor, City of Goodyear, 190 North Litchfield Road, Goodyear, AZ 85338. | Engineering and Development Services, 14455 West Van Buren Street, Suite D101, Goodyear, AZ 85338. | Dec. 11, 2020 | 040046
Maricopa (FEMA Docket No.: B-2056). | City of Litchfield Park (20-09-0240P). | The Honorable Thomas L. Schoaf, Mayor, City of Litchfield Park, 214 West Wigwam Boulevard, Litchfield Park, AZ 85340. | City Hall, 214 West Wigwam Boulevard, Litchfield Park, AZ 85340. | Oct. 20, 2020 | 040128
Maricopa (FEMA Docket No.: B-2066). | City of Peoria (20-09-0467P). | The Honorable Cathy Carlat, Mayor, City of Peoria, 8401 West Monroe Street, Peoria, AZ 85345. | City Hall, 8401 West Monroe Street, Peoria, AZ 85345. | Dec. 18, 2020 | 040050
Maricopa (FEMA Docket No.: B-2066). | City of Peoria (20-09-0555P). | The Honorable Cathy Carlat, Mayor, City of Peoria, 8401 West Monroe Street, Peoria, AZ 85345. | City Hall, 8401 West Monroe Street, Peoria, AZ 85345. | Dec. 28, 2020 | 040050
Maricopa (FEMA Docket No.: B-2066). | City of Peoria (20-09-0943P). | The Honorable Cathy Carlat, Mayor, City of Peoria, 8401 West Monroe Street, Peoria, AZ 85345. | City Hall, 8401 West Monroe Street, Peoria, AZ 85345. | Jan. 22, 2021 | 040050
Maricopa (FEMA Docket No.: B-2066). | City of Phoenix (20-09-0698P). | The Honorable Kate Gallego, Mayor, City of Phoenix, City Hall, 200 West Washington Street, Phoenix, AZ 85003. | Street Transportation Department, 200 West Washington Street, 5th Floor, Phoenix, AZ 85003. | Jan. 4, 2021 | 040051
Maricopa (FEMA Docket No.: B-2071). | City of Scottsdale (20-09-0557P). | The Honorable W.J. “Jim” Lane, Mayor, City of Scottsdale, 3939 North Drinkwater Boulevard, City of Scottsdale, AZ 85251. | Planning Records, 7447 East Indian School Road, Suite 100, Scottsdale, AZ 85251. | Feb. 12, 2021 | 045012
Maricopa (FEMA Docket No.: B-2066). | City of Scottsdale (20-09-0698P). | The Honorable W.J. “Jim” Lane, Mayor, City of Scottsdale, City Hall, 3939 North Drinkwater Boulevard, Scottsdale, AZ 85251. | Planning Records, 7447 East Indian School Road, Suite 100, Scottsdale, AZ 85251. | Jan. 4, 2021 | 045012
Maricopa (FEMA Docket No.: B-2071). | Town of Fountain Hills (20-09-1429P). | The Honorable Ginny Dickey, Mayor, Town of Fountain Hills, 16705 East Avenue of the Fountains, Fountain Hills, AZ 85268. | Town Hall, 16705 East Avenue of the Fountains, Fountain Hills, AZ 85268. | Jan. 15, 2021 | 040135
Maricopa (FEMA Docket No.: B-2056). | Unincorporated Areas of Maricopa County (19-09-2188P). | The Honorable Jack Sellers, Chairman, Board of Supervisors, Maricopa County, 301 West Jefferson Street, 10th Floor, Phoenix, AZ 85003. | Flood Control District of Maricopa County, 2801 West Durango Street, Phoenix, AZ 85009. | Dec. 11, 2020 | 040037
Maricopa (FEMA Docket No.: B-2071). | Unincorporated Areas of Maricopa County (20-09-1429P). | The Honorable Jack Sellers, Chairman, Board of Supervisors, Maricopa County, 301 West Jefferson Street, 10th Floor, Phoenix, AZ 85003. | Flood Control District of Maricopa County, 2801 West Durango Street, Phoenix, AZ 85009. | Jan. 15, 2021 | 040037
Pima (FEMA Docket No.: B-2056). | Town of Marana (19-09-1247P). | The Honorable Ed Honea, Mayor, Town of Marana, 11555 West Civic Center Drive, Marana, AZ 85653. | Engineering Department, Marana Municipal Complex, 11555 West Civic Center Drive, Marana, AZ 85653. | Sep. 24, 2020 | 040118
Pima (FEMA Docket No.: B-2056). | Town of Marana (20-09-0618P). | The Honorable Ed Honea, Mayor, Town of Marana, 11555 West Civic Center Drive, Marana, AZ 85653. | Engineering Department, Marana Municipal Complex, 11555 West Civic Center Drive, Marana, AZ 85653. | Sep. 18, 2020 | 040118
Pima (FEMA Docket No.: B-2056). | Town of Oro Valley (20-09-1126P). | The Honorable Joseph Winfield, Mayor, Town of Oro Valley, 11000 North La Canada Drive, Oro Valley, AZ 85737. | Planning and Zoning Department, 11000 North La Canada Drive, Oro Valley, AZ 85737. | Nov. 19, 2020 | 040109
Pima (FEMA Docket No.: B-2056). | Unincorporated Areas of Pima County (20-09-0478P). | The Honorable Ramón Valdez, Chairman, Board of Supervisors, Pima County, 130 West Congress Street, 11th Floor, Tucson, AZ 85701. | Pima County Flood Control District, 201 North Stone Avenue, 9th Floor, Tucson, AZ 85701. | Nov. 3, 2020 | 040073
Yavapai (FEMA Docket No.: B-2071). | Town of Prescott Valley (20-09-0254P). | The Honorable Kell Palguta, Mayor, Town of Prescott Valley, Civic Center, 7501 East Skoog Boulevard, 4th Floor, Prescott Valley, AZ 86314. | Town Hall, Engineering Division, 7501 East Civic Circle, Prescott Valley, AZ 86314. | Jan. 27, 2021 | 040121
Yavapai (FEMA Docket No.: B-2071). | Unincorporated Areas of Yavapai County (20-09-0254P). | The Honorable Craig L. Brown, Chairman, Board of Supervisors, Yavapai County, 1015 Fair Street, Prescott, AZ 86305. | Yavapai County Flood Control District, 1120 Commerce Drive, Prescott, AZ 86305. | Jan. 27, 2021 | 040093
California:
Fresno (FEMA Docket No.: B-2056). | City of Clovis (20-09-0450P). | The Honorable Drew Bessinger, Mayor, City of Clovis, 1033 5th Street, Clovis, CA 93612. | City Clerk's Office, Civic Center, 1033 5th Street, Clovis, CA 93612. | Dec. 14, 2020 | 060044
Imperial (FEMA Docket No.: B-2056). | Unincorporated Areas of Imperial County (20-09-0728P). | The Honorable Luis A. Plancarte, Chairman, Board of Supervisors, Imperial County, 940 West Main Street, Suite 209, El Centro, CA 92243. | Imperial County, Public Works Department, 155 South 11th Street, El Centro, CA 92243. | Nov. 18, 2020 | 060065
Kern (FEMA Docket No.: B-2066). | City of Tehachapi (20-09-0624P). | The Honorable Susan Wiggins, Mayor, City of Tehachapi, 115 South Robinson Street, Tehachapi, CA 93561. | City Hall, 115 South Robinson Street, Tehachapi, CA 93561. | Dec. 17, 2020 | 060084
Kern (FEMA Docket No.: B-2066). | Unincorporated Areas of Kern County (20-09-0624P). | The Honorable Leticia Perez, Chair, Board of Supervisors, Kern County, 1115 Truxtun Avenue, 5th Floor, Bakersfield, CA 93301. | Kern County Planning Department, 2700 M Street, Suite 100, Bakersfield, CA 93301. | Dec. 17, 2020 | 060075
Los Angeles (FEMA Docket No.: B-2056). | City of Santa Clarita (20-09-0137P). | The Honorable Cameron Smyth, Mayor, City of Santa Clarita, 23920 Valencia Boulevard, Suite 300, Santa Clarita, CA 91355. | City Hall, Planning Department, 23920 Valencia Boulevard, Suite 300, Santa Clarita, CA 91355. | Sep. 23, 2020 | 060729
Los Angeles (FEMA Docket No.: B-2066). | Unincorporated Areas of Los Angeles County (20-09-0667P). | The Honorable Kathryn Barger, Chairman, Board of Supervisors, Los Angeles County, 500 West Temple Street, Room 869, Los Angeles, CA 90012. | Los Angeles County Public Works Headquarters, Watershed Management Division, 900 South Fremont Avenue, Alhambra, CA 91803. | Jan. 20, 2021 | 065043
Placer (FEMA Docket No.: B-2056). | City of Roseville (20-09-0505P). | The Honorable John B. Allard II, Mayor, City of Roseville, 311 Vernon Street, Roseville, CA 95678. | Engineering Department, 316 Vernon Street, Roseville, CA 95678. | Nov. 23, 2020 | 060243
San Luis Obispo (FEMA Docket No.: B-2071). | City of El Paso de Robles (20-09-0780P). | The Honorable Steven W. Martin, Mayor, City of El Paso de Robles, 1000 Spring Street, Paso Robles, CA 93446. | City Hall, 1000 Spring Street, Paso Robles, CA 93446. | Feb. 18, 2021 | 060308
Santa Barbara (FEMA Docket No.: B-2056). | City of Santa Barbara (19-09-2341P). | The Honorable Cathy Murillo, Mayor, City of Santa Barbara, 735 Anacapa Street, Santa Barbara, CA 93101. | Community Development Department, Building and Safety Division, 630 Garden Street, Santa Barbara, CA 93101. | Dec. 8, 2020 | 060335
Santa Barbara (FEMA Docket No.: B-2056). | Unincorporated Areas of Santa Barbara County (19-09-2341P). | The Honorable Gregg Hart, Chairman, Board of Supervisors, Santa Barbara County, 105 East Anapamu Street, 4th Floor, Santa Barbara, CA 93101. | Santa Barbara County Public Works, Water Resources Division, 130 East Victoria Street, Suite 200, Santa Barbara, CA 93101. | Dec. 8, 2020 | 060331
Santa Clara (FEMA Docket No.: B-2056). | City of Sunnyvale (20-09-0849P). | The Honorable Larry Klein, Mayor, City of Sunnyvale, 456 West Olive Avenue, Sunnyvale, CA 94086. | Public Works Department, 456 West Olive Avenue, Sunnyvale, CA 94086. | Nov. 18, 2020 | 060352
Florida:
Duval (FEMA Docket No.: B-2066). | City of Jacksonville (19-04-2830P). | The Honorable Lenny Curry, Mayor, City of Jacksonville, 117 West Duval Street, Suite 400, Jacksonville, FL 32202. | Edward Ball Building Development Services, Room 2100, 214 North Hogan Street, Jacksonville, FL 32202. | Jan. 11, 2021 | 120077
Orange (FEMA Docket No.: B-2066). | City of Orlando (20-04-0603P). | The Honorable Buddy Dyer, Mayor, City of Orlando, P.O. Box 4990, Orlando, FL 32801. | City Hall, Permitting Services, 400 South Orange Avenue, 1st Floor, Orlando, FL 32801. | Jan. 7, 2021 | 120186
Orange (FEMA Docket No.: B-2066). | Unincorporated Areas of Orange County (20-04-0603P). | The Honorable Jerry L. Demings, Mayor, Orange County, 201 South Rosalind Avenue, 5th Floor, Orlando, FL 32801. | Orange County Stormwater Management Division, 4200 South John Young Parkway, Orlando, FL 32839. | Jan. 7, 2021 | 120179
St. Johns (FEMA Docket No.: B-2066). | Unincorporated Areas of St. Johns County (19-04-6644P). | The Honorable Jeb S. Smith, Chair, St. Johns County Board of County Commissioners, 500 San Sebastian View, St. Augustine, FL 32084. | St. Johns County Permit Center, 4040 Lewis Speedway, St. Augustine, FL 32084. | Jan. 15, 2021 | 125147
St. Johns (FEMA Docket No.: B-2056). | Unincorporated Areas of St. Johns County (20-04-1346P). | The Honorable Jeb S. Smith, Chair, St. Johns County Board of Commissioners, 500 San Sebastian View, St. Augustine, FL 32084. | St. Johns Administration Building, 4020 Lewis Speedway, St. Augustine, FL 32084. | Nov. 20, 2020 | 125147
Hawaii: Honolulu (FEMA Docket No.: B-2071). | City and County of Honolulu (20-09-0544P). | The Honorable Kirk Caldwell, Mayor, City and County of Honolulu, 530 South King Street, Room 306, Honolulu, HI 96813. | Department of Planning and Permitting, 650 South King Street, 1st Floor, Honolulu, HI 96813. | Jan. 4, 2021 | 150001
Idaho: Ada (FEMA Docket No.: B-2056). | Unincorporated Areas of Ada County (20-10-0791P). | Ms. Kendra Kenyon, Chair, Ada County Board of Commissioners, Ada County Courthouse, 200 West Front Street, 3rd Floor, Boise, ID 83702. | Ada County Courthouse, 200 West Front Street, Boise, ID 83702. | Nov. 23, 2020 | 160001
Illinois:
Cook (FEMA Docket No.: B-2080). | City of Prospect Heights (19-05-1451P). | The Honorable Nicholas J. Helmer, Mayor, City of Prospect Heights, 8 North Elmhurst Road, Prospect Heights, IL 60070. | City Hall, 8 North Elmhurst Road, Prospect Heights, IL 60070. | Mar. 4, 2021 | 170919
Cook (FEMA Docket No.: B-2080). | Unincorporated Areas of Cook County (19-05-1451P). | The Honorable Toni Preckwinkle, County Board President, Cook County, 118 North Clark Street, Room 537, Chicago, IL 60602. | Cook County Building and Zoning Department, 69 West Washington, Suite 2830, Chicago, IL 60602. | Mar. 4, 2021 | 170054
Cook (FEMA Docket No.: B-2080). | Village of Wheeling (19-05-1451P). | The Honorable Patrick Horcher, Village President, Village of Wheeling, 2 Community Boulevard, Wheeling, IL 60090. | Village Hall, Community Development Engineering Division, 2 Community Boulevard, Wheeling, IL 60090. | Mar. 4, 2021 | 170173
DuPage (FEMA Docket No.: B-2056). | City of Naperville (20-05-2895P). | The Honorable Steve Chirico, Mayor, City of Naperville, Municipal Center, 400 South Eagle Street, Naperville, IL 60540. | Municipal Center, 400 South Eagle Street, Naperville, IL 60540. | Dec. 17, 2020 | 170213
DuPage (FEMA Docket No.: B-2080). | Village of Westmont (20-05-3289P). | The Honorable Ronald J. Gunter, Mayor, Village of Westmont, 31 West Quincy Street, Westmont, IL 60559. | Village Hall, 31 West Quincy Street, Westmont, IL 60559. | Mar. 19, 2021 | 170220
Kane (FEMA Docket No.: B-2080). | Unincorporated Areas of Kane County (20-05-2475P). | The Honorable Corinne Pierog, Chairman, Kane County Board, Kane County Government Center, Building A, 719 South Batavia Avenue, Geneva, IL 60134. | Kane County Government Center, Building A, Water Resources Department, 719 South Batavia Avenue, Geneva, IL 60134. | Feb. 19, 2021 | 170896
Kane (FEMA Docket No.: B-2080). | Village of Carpentersville (20-05-2475P). | The Honorable John Skillman, Village President, Village of Carpentersville, 1200 L.W. Besinger Drive, Carpentersville, IL 60110. | Village Hall, 1200 L.W. Besinger Drive, Carpentersville, IL 60110. | Feb. 19, 2021 | 170322
Kane (FEMA Docket No.: B-2080). | Village of Carpentersville (20-05-2659P). | The Honorable John Skillman, Village President, Village of Carpentersville, 1200 L.W. Besinger Drive, Carpentersville, IL 60110. | Village Hall, 1200 L.W. Besinger Drive, Carpentersville, IL 60110. | Feb. 25, 2021 | 170322
Ogle (FEMA Docket No.: B-2066). | City of Rochelle (18-05-6017P). | The Honorable John Bearrows, Mayor, City of Rochelle, 420 North 6th Street, Rochelle, IL 61068. | City Hall, 420 North 6th Street, Rochelle, IL 61068. | Dec. 31, 2020 | 170532
Will (FEMA Docket No.: B-2056). | City of Lockport (19-05-1153P). | The Honorable Steven Streit, Mayor, City of Lockport, 222 East 9th Street, Lockport, IL 60441. | Public Works and Engineering, 17112 South Prime Boulevard, Lockport, IL 60441. | Dec. 21, 2020 | 170703
Will (FEMA Docket No.: B-2056). | Unincorporated Areas of Will County (19-05-1153P). | The Honorable Jennifer Bertino-Tarrant, Will County Executive, Will County Office Building, 302 North Chicago Street, Joliet, IL 60432. | Land Use Department, 58 East Clinton Street, Suite 100, Joliet, IL 60432. | Dec. 21, 2020 | 170695
Will (FEMA Docket No.: B-2080). | Village of Monee (20-05-3030P). | The Honorable James F. Popp, Mayor, Village of Monee, 5130 West Court Street, Monee, IL 60449. | Village Hall, 5130 West Court Street, Monee, IL 60449. | Feb. 18, 2021 | 171029
Indiana:
Allen (FEMA Docket No.: B-2056). | City of Fort Wayne (20-05-2353P). | The Honorable Tom Henry, Mayor, City of Fort Wayne, 200 East Berry Street, Suite 420, Fort Wayne, IN 46802. | Department of Planning Services, 200 East Berry Street, Suite 150, Fort Wayne, IN 46802. | Nov. 24, 2020 | 180003
Allen (FEMA Docket No.: B-2056). | Unincorporated Areas of Allen County (20-05-2353P). | Mr. Nelson Peters, District 1, Commissioner Allen County Citizens Square, 200 East Berry Street, Suite 410, Fort Wayne, IN 46802. | Allen County, Department of Planning Services, 200 East Berry Street, Suite 150, Fort Wayne, IN 46802. | Nov. 24, 2020 | 180302
Hancock (FEMA Docket No.: B-2071). | Unincorporated Areas of Hancock County (20-05-0636P). | Mr. John Jessup, District 1, Hancock County Commissioner, 111 South American Legion Place, Suite 219, Greenfield, IN 46140. | Hancock County Government Building, 111 South American Legion Place, Greenfield, IN 46140. | Feb. 4, 2021 | 180419
Marion (FEMA Docket No.: B-2066). | City of Indianapolis (20-05-1025P). | The Honorable Joe Hogsett, Mayor, City of Indianapolis, 2501 City-County Building, 200 East Washington Street, Indianapolis, IN 46204. | City Hall, 1200 Madison Avenue, Suite 100, Indianapolis, IN 46225. | Jan. 8, 2021 | 180159
Iowa: Dallas (FEMA Docket No.: B-2056). | City of Waukee (20-07-0452P). | The Honorable Courtney Clarke, Mayor, City of Waukee, 230 West Hickman Road, Waukee, IA 50263. | City Hall, 230 West Hickman Road, Waukee, IA 50263. | Jan. 4, 2021 | 190678
Kansas:
Johnson (FEMA Docket No.: B-2071). | City of Leawood (20-07-0997P). | The Honorable Peggy J. Dunn, Mayor, City of Leawood, 4800 Town Center Drive, Leawood, KS 66211. | City Hall, 4800 Town Center Drive, Leawood, KS 66211. | Feb. 10, 2021 | 200167
Johnson (FEMA Docket No.: B-2056). | City of Shawnee (20-07-0477P). | The Honorable Michelle Distler, Mayor, City of Shawnee, City Hall, 11110 Johnson Drive, Shawnee, KS 66203. | City Hall, 11110 Johnson Drive, Shawnee, KS 66203. | Dec. 23, 2020 | 200177
Leavenworth (FEMA Docket No.: B-2071). | City of Basehor (20-07-1354P). | The Honorable David Breuer, Mayor, City of Basehor, P.O. Box 406, Basehor, KS 66007. | City Hall, 2620 North 155th Street, Basehor, KS 66007. | Feb. 17, 2021 | 200187
Michigan:
Macomb (FEMA Docket No.: B-2056). | City of Sterling Heights (20-05-1130P). | The Honorable Michael Taylor, Mayor, City of Sterling Heights, City Hall, 40555 Utica Road, Sterling Heights, MI 48313. | City Hall, 40555 Utica Road, Sterling Heights, MI 48313. | Nov. 9, 2020 | 260128
Washtenaw (FEMA Docket No.: B-2066). | City of Ann Arbor (20-05-2798P). | The Honorable Christopher Taylor, Mayor, City of Ann Arbor, City Hall, 301 East Huron Street, 3rd Floor, Ann Arbor, MI 48104. | City Hall, 301 East Huron Street, 3rd Floor, Ann Arbor, MI 48104. | Jan. 15, 2021 | 260213
Wayne (FEMA Docket No.: B-2071). | Township of Huron (20-05-1619P). | Mr. David Glaab, Supervisor, Township of Huron, The Huron Township Office, 29950 Huron River Drive, New Boston, MI 48164. | Township of Huron, 29950 Huron River Drive, New Boston, MI 48164. | Feb. 18, 2021 | 260545
Minnesota: Nobles (FEMA Docket No.: B-2056). | City of Worthington (20-05-0776P). | The Honorable Mike Kuhle, Mayor, City of Worthington, 303 9th Street, Worthington, MN 56187. | City Hall, 303 9th Street, Worthington, MN 56187. | Dec. 31, 2020 | 270321
Missouri:
Jackson (FEMA Docket No.: B-2071). | City of Kansas City (20-07-0962P). | The Honorable Quinton Lucas, Mayor, City of Kansas City, City Hall, 414 East 12th Street, Kansas City, MO 64106. | Federal Office Building, 911 Walnut Street, Kansas City, MO 64106. | Oct. 6, 2020 | 290173
St. Louis (FEMA Docket No.: B-2071). | City of Bridgeton (20-07-0235P). | The Honorable Terry Briggs, Mayor, City of Bridgeton, 12355 Natural Bridge Road, Bridgeton, MO 63044. | Government Center, 12355 Natural Bridge Road, Bridgeton, MO 63044. | Feb. 26, 2021 | 290339
Nebraska:
Lancaster (FEMA Docket No.: B-2071). | Unincorporated Areas of Lancaster County (19-07-1293P). | Mr. Sean Flowerday, Board Chair, Lancaster County County/City Building, 555 South 10th Street, Room 110, Lincoln, NE 68508. | Lancaster County Building & Safety Department, 555 South 10th Street, Lincoln, NE 68508. | Feb. 16, 2021 | 310134
Saline (FEMA Docket No.: B-2056). | City of Wilber (20-07-1032P). | The Honorable Roger Chrans, Mayor, City of Wilber, P.O. Box 486, Wilber, NE 68465. | City Hall, 101 West 3rd, Wilber, NE 68465. | Dec. 10, 2020 | 310189
Nevada:
Carson City (FEMA Docket No.: B-2056). | City of Carson City (20-09-1420X). | The Honorable Robert L. Crowell, Mayor, City of Carson City, City Hall, 201 North Carson Street, Suite 2, Carson City, NV 89701. | Building Division, Permit Center, 108 East Proctor Street, Carson City, NV 89701. | Dec. 17, 2020 | 320001
Clark (FEMA Docket No.: B-2056). | City of North Las Vegas (20-09-0781P). | The Honorable John J. Lee, Mayor, City of North Las Vegas, 2250 Las Vegas Boulevard North, North Las Vegas, NV 89030. | Public Works Department, 2250 Las Vegas Boulevard North, Suite 200, North Las Vegas, NV 89030. | Dec. 15, 2020 | 320007
Douglas (FEMA Docket No.: B-2071). | Unincorporated Areas of Douglas County (20-09-0629P). | The Honorable Barry Penzel, Chairman, Board of Commissioners, Douglas County, P.O. Box 218, Minden, NV 89423. | Douglas County, Community Development, 1594 Esmeralda Avenue, Minden, NV 89423. | Jan. 8, 2021 | 320008
Lyon (FEMA Docket No.: B-2056). | Unincorporated Areas of Lyon County (20-09-1267P). | The Honorable Vida Keller, Chair, Board of Commissioners, Lyon County, P.O. Box 201, Silver Springs, NV 89429. | Lyon County Planning Division, 27 South Main Street, Yerington, NV 89447. | Nov. 19, 2020 | 320029
New Jersey: Middlesex (FEMA Docket No.: B-2071). | Township of Old Bridge (20-02-1168X). | The Honorable Owen Henry, Mayor, Township of Old Bridge, Municipal Building, 1 Old Bridge Plaza, Old Bridge, NJ 08857. | Municipal Building, 1 Old Bridge Plaza, Old Bridge, NJ 08857. | Jan. 26, 2021 | 340265
New York:
Dutchess (FEMA Docket No.: B-2056). | Town of LaGrange (19-02-0952P). | The Honorable Alan Bell, Supervisor, Town of LaGrange, 120 Stringham Road, LaGrangeville, NY 12540. | Town Hall, 120 Stringham Road, LaGrangeville, NY 12540. | Dec. 30, 2020 | 361011
Nassau (FEMA Docket No.: B-2041). | Town of North Hempstead (19-02-1366P). | The Honorable Judi Bosworth, Supervisor, Town of North Hempstead, Town Hall, 220 Plandome Road, Manhasset, NY 11030. | Town Hall, 220 Plandome Road, Manhasset, NY 11030. | Nov. 20, 2020 | 360482
Ohio:
Fairfield (FEMA Docket No.: B-2071). | City of Lancaster (20-05-2575P). | The Honorable David L. Scheffler, City Hall, Mayor, City of Lancaster, 104 East Main Street, Room 101, Lancaster, OH 43130. | City Building Department, 121 East Chestnut Street, Lancaster, OH 43130. | Feb. 26, 2021 | 390161
Fairfield (FEMA Docket No.: B-2056). | Unincorporated Areas of Fairfield County (20-05-2573P). | The Honorable Dave L. Levacy, Fairfield County Commissioner, 210 East Main Street, Room 301, Lancaster, OH 43130. | Fairfield County Regional Planning Commission, 210 East Main Street, Room 104, Lancaster, OH 43130. | Nov. 25, 2020 | 390158
Fairfield (FEMA Docket No.: B-2056). | Unincorporated Areas of Fairfield County (20-05-2574P). | The Honorable Dave L. Levacy, Fairfield County Commissioner, 210 East Main Street, Room 301, Lancaster, OH 43130. | Fairfield County Regional Planning Commission, 210 East Main Street, Room 104, Lancaster, OH 43130. | Nov. 25, 2020 | 390158
Lorain (FEMA Docket No.: B-2066). | City of Elyria (19-05-3354P). | The Honorable Frank Whitfield, MBA, Mayor, City of Elyria, City Hall, 131 Court Street, Suite 301, Elyria, OH 44035. | Lorain County Administration Building, 226 Middle Avenue, Elyria, OH 44035. | Jan. 22, 2021 | 390350
Lorain (FEMA Docket No.: B-2066). | Unincorporated Areas of Lorain County (19-05-3354P). | Ms. Lori Kokoski, President, Board of Commissioners, Lorain County, 226 Middle Avenue, Elyria, OH 44035. | Lorain County Administration Building, 226 Middle Avenue, Elyria, OH 44035. | Jan. 22, 2021 | 390346
Medina (FEMA Docket No.: B-2066). | City of Brunswick (20-05-0885P). | The Honorable Ron Falconi, Mayor, City of Brunswick, 4095 Center Road, Brunswick, OH 44212. | City Engineer, 4095 Center Road, Brunswick, OH 44212. | Jan. 6, 2021 | 390380
Oregon:
Clackamas (FEMA Docket No.: B-2056). | City of Happy Valley (20-10-0119P). | The Honorable Tom Ellis, Mayor, City of Happy Valley, 16000 Southeast Misty Drive, Happy Valley, OR 97086. | City Hall, 12915 Southeast King Road, Happy Valley, OR 97086. | Nov. 12, 2020 | 410026
Multnomah (FEMA Docket No.: B-2066). | City of Troutdale (20-10-0496P). | The Honorable Casey Ryan, Mayor, City of Troutdale, 219 East Historic Columbia River Hwy., Troutdale, OR 97060. | City Hall, 219 East Historic Columbia River Hwy., Troutdale, OR 97060. | Jan. 11, 2021 | 410184
Multnomah (FEMA Docket No.: B-2066). | Unincorporated Areas of Multnomah County (20-10-0496P). | Ms. Deborah Kafoury, Chair, Multnomah County, 501 Southeast Hawthorne Boulevard, Suite 600, Portland, OR 97214. | Multnomah County Office of Land Use and Planning, 1600 Southeast 190th Avenue, Portland, OR 97233. | Jan. 11, 2021 | 410179
Texas:
Collin (FEMA Docket No.: B-2071). | City of Frisco (19-06-1387P). | The Honorable Jeff Cheney, Mayor, City of Frisco, George A. Purefoy Municipal Center, 6101 Frisco Square Boulevard, Frisco, TX 75034. | George A. Purefoy Municipal Center, 6101 Frisco Square Boulevard, 3rd Floor, Frisco, TX 75034. | Feb. 22, 2021 | 480134
Collin (FEMA Docket No.: B-2056). | Town of Prosper (20-06-0402P). | The Honorable Ray Smith, Mayor, Town of Prosper, P.O. Box 307, Prosper, TX 75078. | Town Hall, 250 West 1st Street, Prosper, TX 75078. | Dec. 23, 2020 | 480141
Collin and Dallas (FEMA Docket No.: B-2056). | City of Dallas (20-06-1079P). | The Honorable Eric Johnson, Mayor, City of Dallas, City Hall, 1500 Marilla Street, Suite 5EN, Dallas, Texas 75201. | Trinity Watersheed Management Department/Floodplain and Drainage Management, 320 East Jefferson Boulevard, Room 307, Dallas, TX 75203. | Dec. 11, 2020 | 480171
Dallas (FEMA Docket No.: B-2056). | City of Irving (20-06-1079P). | The Honorable Rick Stopfer, Mayor, City of Irving, City Hall, 825 West Irving Boulevard, Irving, TX 75060. | Capital Improvement Department, 825 West Irving Boulevard, Irving, TX 75060. | Dec. 11, 2020 | 480180
Dallas (FEMA Docket No.: B-2056). | Unincorporated Areas of Dallas County (20-06-1079P). | The Honorable Clay L. Jenkins, County Judge, Dallas County, Administration Building, 411 Elm Street, Dallas, TX 75202. | Dallas County Public Works Department, 411 Elm Street, 4th Floor, Dallas, TX 75202. | Dec. 11, 2020 | 480165
Denton (FEMA Docket No.: B-2071). | City of Carrollton (19-06-3346P). | The Honorable Kevin Falconer, Mayor, City of Carrollton, 1945 East Jackson Road, Carrollton, TX 75006. | Engineering Department, 1945 East Jackson Road, Carrollton, TX 75006. | Feb. 4, 2021 | 480167
Denton (FEMA Docket No.: B-2071). | City of Lewisville (19-06-3346P). | The Honorable Rudy Durham, Mayor, City of Lewisville, 151 West Church Street, Lewisville, TX 75057. | Engineering Division, 151 West Church Street, Lewisville, TX 75057. | Feb. 4, 2021 | 480195
Lamar (FEMA Docket No.: B-2071). | City of Paris (19-06-4007P). | The Honorable Dr. Steve Clifford, Mayor, City of Paris, P.O. Box 9037, Paris, TX 75461. | City Hall, 135 Southeast 1st Street, Paris, TX 75460. | Feb. 5, 2021 | 480427
Utah: Morgan (FEMA Docket No.: B-2066). | Unincorporated Areas Morgan County (20-08-0579P). | Mr. Roland Haslam, Chair, Morgan County Board, 48 West Young Street, Morgan, UT 84050. | Morgan County Community Development Department, 48 West Young Street, Morgan, UT 84050. | Jan. 20, 2021 | 490092
Wisconsin:
Brown (FEMA Docket No.: B-2056). | Unincorporated Areas of Brown County (19-05-5377P). | Mr. Patrick Buckley, Chair, Brown County Board of Supervisors, P.O. Box 23600, Green Bay, WI 54305. | Brown County Zoning Office, 305 East Walnut Street, Green Bay, WI 54301. | Nov. 24, 2020 | 550020
Brown (FEMA Docket No.: B-2056). | Village of Howard (20-05-2635P). | Mr. Burt McIntyre, Village President, Village of Howard, 2456 Glendale Avenue, Green Bay, WI 54313. | Village Hall, 2456 Glendale Avenue, Green Bay, WI 54313. | Nov. 27, 2020 | 550023
Buffalo (FEMA Docket No.: B-2056). | Unincorporated Areas of Buffalo County (20-05-1547P). | Mr. Dennis Bork, Chair, Buffalo County Board, P.O. Box 58, Alma, WI 54610. | Buffalo County Courthouse, 407 South 2nd Street, Alma, WI 54610. | Dec. 4, 2020 | 555547
Chippewa (FEMA Docket No.: B-2056). | City of Chippewa Falls (20-05-0796P). | The Honorable Gregory Hoffman, Mayor, City of Chippewa Falls, 30 West Central Street, Chippewa Falls, WI 54729. | City Hall, Inspection Zoning Office, 30 West Central Street, Chippewa Falls, WI 54729. | Oct. 26, 2020 | 550044

[FR Doc. 2021-08693 Filed 4-26-21; 8:45 am]

BILLING CODE 9110-12-P